INTERNATIONAL TRADE COMMISSION

[Investigation No. 337-TA-1057]

Certain Robotic Vacuum Cleaning Devices and Components Thereof Such as Spare Parts; Institution of Investigation

AGENCY: U.S. International Trade Commission.

ACTION: Notice.

SUMMARY: Notice is hereby given that a complaint was filed with the U.S. International Trade Commission on April 18, 2017, under section 337 of the Tariff Act of 1930, as amended, on behalf of iRobot Corporation of Bedford, Massachusetts. A supplement was filed on April 28, 2017. The complaint, as supplemented, alleges violations of section 337 based upon the importation into the United States, the sale for importation, and the sale within the United States after importation of certain vacuum cleaning devices and components thereof such as spare parts by reason of infringement of certain claims of U.S. Patent No. 6,809,490 (“the '490 patent”); U.S. Patent No. 7,155,308 (“the '308 patent”); U.S. Patent No. 8,474,090 (“the '090 patent”); U.S. Patent No. 8,600,553 (“the '553 patent”); U.S. Patent No. 9,038,233 (“the '233 patent”); and U.S. Patent No. 9,486,924 (“the '924 patent”). The complaint further alleges that an industry in the United States exists as required by the applicable Federal Statute.

The complainant requests that the Commission institute an investigation and, after the investigation, issue a limited exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: The Office of the Secretary, Docket Services Division, U.S. International Trade Commission, telephone (202) 205-1802.

Authority: The authority for institution of this investigation is contained in section 337 of the Tariff Act of 1930, as amended, 19 U.S.C. 1337 and in section 210.10 of the Commission's Rules of Practice and Procedure, 19 CFR 210.10 (2017).

Scope of Investigation: Having considered the complaint, the U.S. International Trade Commission, on May 17, 2017, ORDERED THAT—

(1) Pursuant to subsection (b) of section 337 of the Tariff Act of 1930, as amended, an investigation be instituted to determine whether there is a violation of subsection (a)(1)(B) of section 337 in the importation into the United States, the sale for importation, or the sale within the United States after importation of certain vacuum cleaning devices and components thereof such as spare parts by reason of infringement of one or more of claims 1-3, 7, 12, and 42 of the '490 patent; claims 1-3, 7, 11, 12, 17, 19, 20, 28, and 34 of the '308 patent; claims 1-3, 7, 8, 10, 11, 14, 15, and 17-19 of the '090 patent; claims 1, 2, 4, 8, 11, 12, 21, 22, and 25 of the '553 patent; claims 1, 10, 11, and 14-16 of the '233 patent; and claims 1, 2, 8, 9, 12, and 13 of the '924 patent, and whether an industry in the United States exists as required by subsection (a)(2) of section 337;

(2) For the purpose of the investigation so instituted, the following are hereby named as parties upon which this notice of investigation shall be served:

(a) The complainant is:

iRobot Corporation, 8 Crosby Drive, Bedford, Massachusetts 01730.

(b) The respondents are the following entities alleged to be in violation of section 337, and are the parties upon which the complaint is to be served:

Bissell Homecare, Inc., 2345 Walker Ave. NW., Grand Rapids, Michigan 49544.

Hoover Inc., 7005 Cochran Road, Glenwillow, Ohio 44139.

Royal Appliance Manufacturing Co. Inc., d/b/a TTI Floor Care North America, Inc., 7005 Cochran Road, Glenwillow, Ohio 44139.

Bobsweep, Inc., 1121 Bay St., Suite 709, Toronto, Ontario M5S3L9, Canada.

Bobsweep USA, 2360 Corporate Circle, Suite 400, Henderson, Nevada 89074.

The Black & Decker Corporation, 701 E. Joppa Rd., Towson, Maryland 21286.

Black & Decker (U.S.) Inc., 701 E. Joppa Rd., Towson, Maryland 21286.

Shenzhen ZhiYi Technology Co., Ltd., d/b/a iLife, 3rd Floor Bld B, Hytera Technology Park, No. 3, 4th of Baolong Road, Longgang, Shenzhen 518000, China.

Matsutek Enterprises Co., Ltd., 2F, 2, Lane 15 Tzu Chiang Street, New Taipei City, Taiwan 23678.

Suzhou Real Power Electric Appliance Co., Ltd., No 9 Shi Yang Rd, Suzhou New District, Suzhou 215151, China.

Shenzhen Silver Star Intelligent Technology Co., Ltd., Building D, Huiqing Technology Park, DAFU Industrial Area, Guanguang Road, Guanlan Town, Shenzhen, China.

(3) For the investigation so instituted, the Chief Administrative Law Judge, U.S. International Trade Commission, shall designate the presiding Administrative Law Judge.

The Office of Unfair Import Investigations will not participate as a party in the investigation.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: May 17, 2017.
Lisa R. Barton,
Secretary to the Commission.

[FR Doc. 2017-10477 Filed 5-22-17; 8:45 am]

BILLING CODE 7020-02-P